DEPARTMENT OF DEFENSE

Department of the Navy

32 CFR Part 732

[Docket ID: USN-2019-HQ-0003]

RIN 0703-AB10

Non Naval Medical and Dental Care

AGENCY: Department of the Navy, Department of Defense.

ACTION: Final rule.

SUMMARY: This final rule removes the Department of the Navy (DON) regulation concerning Non Naval Medical and Dental Care. This regulation is redundant of a Department of Defense regulation on the payment of claims to private sector health care providers for health care services furnished to active duty members of all uniformed services, and it should be repealed.

DATES: This rule is effective on March 26, 2019.

FOR FURTHER INFORMATION CONTACT: Commander Lakesha Chieves 703-693-0238.

SUPPLEMENTARY INFORMATION: Code of Federal Regulations, title 32, subtitle A, chapter VI, subchapter C, part 732, “Non Naval Medical and Dental Care,” prescribes the responsibility, eligibility and procedures for processing civilian medical and dental claims for active duty Navy and Marine Corps service members. The processing of civilian medical and dental care claims for active duty Navy and Marine Corps service members as directed by part 732 was superseded in 1991 by 32 CFR 199.16, “Supplemental Health Care Program.” Section 199.16 provides for the payment of claims to private sector health care providers for health care services furnished to active duty members of all uniformed services. It has been determined that publication of this CFR part removal for public comment is impracticable and contrary to public interest since it is based upon removing redundant information.

This rule is not significant under Executive Order (E.O.) 12866, “Regulatory Planning and Review.” Therefore, E.O. 13771, “Reducing Regulation and Controlling Regulatory Costs” does not apply.

List of Subjects in 32 CFR Part 732

Dental health, Health care, Military personnel.

PART 732—[REMOVED]

Accordingly, by the authority of 10 U.S.C. 301, 32 CFR part 732 is removed.

Dated: March 21, 2019.
M.S. Werner,
Commander, Judge Advocate General's Corps, U.S. Navy, Federal Register Liaison Officer.

[FR Doc. 2019-05724 Filed 3-25-19; 8:45 am]

BILLING CODE 3810-FF-P